DEPARTMENT OF JUSTICE

Drug Enforcement Administration

C. Van Nostrand-Perkins, M.D.; Revocation of Registration

On August 5, 1999, the Deputy Assistant Administrator, Office of Diversion Control, Drug Enforcement Administration (DEA), issued an Order to Show Cause to C. Van Nostrand-Perkins, M.D., of Huntington Beach, California, notifying her of an opportunity to show cause as to why DEA should not revoke her DEA Certificate of Registration BP3939165 pursuant to 21 U.S.C. 824(a)(3), and deny any pending applications for renewal of such registration pursuant to 21 U.S.C. 823(f), for reason that she is not currently authorized to handle controlled substances in the State of California. The order also notified Dr. Van Nostrand-Perkins that should no request for a hearing be filed within 30 days, her hearing right would be deemed waived.

DEA received a signed receipt indicating that the Order to Show Cause was received on or about August 13, 1999. No request for a hearing or any other reply was received by the DEA from Dr. Van Nostrand-Perkins or anyone purporting to represent her in this matter. Therefore, the Deputy Administrator, finding that (1) 30 days have passed since the receipt of the Order to Show Cause, and (2) no request for a hearing having been received, concludes that Dr. Van Nostrand-Perkins is deemed to have waived her hearing right. After considering material from the investigative file in this matter, the Deputy Administrator now enters his final order without a hearing pursuant to 21 C.F.R. 1301.43(d) and (e) and 1301.46. This final order replaces and supersedes the final order issued on January 3, 2000.

The Deputy Administrator finds that Dr. Van Nostrand-Perkins currently possesses DEA Certificate of Registration BP3939165 issued to her in California. The Deputy Administrator further finds that effective August 14, 1997, the Division of Medical Quality, Medical Board of California, Department of Consumer Affairs, State of California revoked Dr. Van Nostrand-Perkins' license to practice medicine. The Deputy Administrator concludes that Dr. Van Nostrand-Perkins is not currently licensed to practice medicine in California, and therefore it is reasonable to infer that she is not currently authorized to handle controlled substances in that state.

The DEA does not have the statutory authority under the Controlled Substances Act to issue or maintain a registration if the applicant or registrant is without state authority to handle controlled substances in the state in which she conducts her business. See 21 U.S.C. 802(21), 823(f) and 824(a)(3). This prerequisite has been consistently upheld. See Romeo J. Perez, M.D., 62 FR 16,193 (1997); Demetris A. Green, M.D., 61 FR 60,728 (1996); Dominick A. Ricci, M.D., 58 FR 51, 104 (1993).

Here it is clear that Dr. Van Nostrand-Perkins is not currently authorized to handle controlled substances in the State of California. As a result, she is not entitled to a DEA registration in that state.

Accordingly, the Deputy Administrator of the Drug Enforcement Administration, pursuant to the authority vested in him by 21 U.S.C. 823 and 824 C.F.R. 0.100(b) and 0.104, hereby orders that DEA Certificate of Registration BP3939165, previously issued to C. Van Nostrand-Perkins, M.D., be, and it hereby is, revoked. The Deputy Administrator further orders that any pending applications for the renewal of such registration, be, and they hereby are, denied. This order is effective March 6, 2000, and is considered the final agency action for appellate purposes pursuant to 21 U.S.C. 877.

Dated: January 18, 2000.
Donnie R. Marshall,
Deputy Administrator.

[FR Doc. 00-2533 Filed 2-3-00; 8:45 am]

BILLING CODE 4410-09-M